DEPARTMENT OF HEALTH AND HUMAN SERVICES

Centers for Disease Control and Prevention (CDC)

Announcement of Requirements and Registration for “Be Heads Up About Concussion Safety” Poster Design Contest

Authority: 15 U.S.C. 3719.

AGENCY: Centers for Disease Control and Prevention (CDC), Department of Health and Human Services (HHS).

Award Approving Official: Thomas R. Frieden, MD, MPH, Director, Centers for Disease Control and Prevention, and Administrator, Agency for Toxic Substances and Disease Registry.

ACTION: Notice.

SUMMARY: The Centers for Disease Control and Prevention (CDC) located within the Department of Health and Human Services (HHS) launches the “Be Heads Up About Concussion Safety” poster design contest for children and adolescents ages 5 to 18. HHS/CDC's National Center for Injury Prevention and Control (NCIPC) asks children and adolescents to be creative and send in posters they create by taking concussion safety key messages created by CDC (listed below), or creating their own message(s) on concussion safety, and using them to design a poster. Children and adolescents can draw, paint, or use a computer to design a poster. The poster should be designed to help make aware and educate other children and adolescents about how to spot a concussion or other serious brain injury, what to do if someone may have a concussion or other serious brain injury, and how to help keep safe from these injuries at school, home, or play.

Children and adolescents can create their own concussion safety messages or use one or more of the CDC key messages listed below in their poster:

• Be Heads Up about concussion. Learn more at www.cdc.gov/Concussion.

• Be Heads Up about concussion at school, home, and play. Learn more at www.cdc.gov/Concussion.

• We can all play a role in concussion safety. Learn more at www.cdc.gov/Concussion.

• Be Heads Up! All concussions are serious. Learn more at www.cdc.gov/Concussion.

• Get a Heads Up! Learn what to do if you think you have a concussion at www.cdc.gov/Concussion.

• Getting back in the game with a concussion is a bad call. It could take you out of the game of life, for good. Learn more at www.cdc.gov/Concussion.

• All concussions are serious. It's better to miss one game than the whole season. Learn more at www.cdc.gov/Concussion.

• Be Heads Up! If you think you have a concussion: don't hide, report it. Take time to recover. Learn more at www.cdc.gov/Concussion.

This contest is necessary to make children and adolescents aware that there are things they can do to help prevent concussions and other serious brain injuries. We expect the contest will inspire children and adolescents to educate other people and raise awareness of concussion safety in elementary, middle, and high schools in their communities. By showcasing the winning posters in each category of submission ((1) Ages 5-8; (2) Ages 9-12; (3) Ages 13-15; (4) Ages 16-18), we will help children and adolescents reach others with important messaging about concussions and other serious brain injuries.

How To Enter:

• Sign up for a Challenge.gov account and become a follower of the “Be Heads Up About Concussion Safety” Poster Design Contest at www.beheadsup.challenge.gov.

• Review the rules and guidelines of this contest listed below or at www.beheadsup.challenge.gov.

• Contestants must send in original artwork by email or mail. To send in the poster by email, please send the poster in the form of a photograph, PDF or scanned copy to: DUIPinquiries@cdc.gov. Please use subject line: Heads Up Poster Design Contest. Contestants can also send in posters by mail on a 22″ by 28″ poster board to: Heads Up Poster Design Contest, 4770 Buford Hwy. NE., Mail Stop F-62, Atlanta, GA 30341.

• Contestants must include the following information with their poster entry:

○ Name(s) of the contestant(s)

○ Age category (Ages 5-8; Ages 9-12; Ages 13-15; Ages 16-18.)

• Posters entered into the contest will not be returned to contestants.

• You can use graphic design and other creative methods (including, but not limited to paint, pencil, colored pencils, or crayon) to design your poster.

• All posters must be in English.

DATES: Contestants can send in posters on June 12, 2013 to January 31, 2014. Judging will take place between February 1-28, 2014, and winners will be notified and prizes awarded by March 19, 2014.

Contest Prizes: We will choose one winner in each category: ((1) Ages 5-8; (2) Ages 9-12; (3) Ages 13-15; (4) Ages 16-18). The winner in each category will get one prize of $250.00. We will pay $250.00 to winners by electronic funds transfer. Winners may need to pay Federal income taxes on any prize money. HHS will follow Internal Revenue Service withholding and reporting requirements.

How Winners Will Be Selected: An informed panel of HHS/CDC/NCIPC program staff and external injury and violence professionals who meet the requirements of the America COMPETES Act will judge the poster entries. We will name the judges after the contest begins. The judging panel will use these criteria to choose the winners:

(1) Creativity/Innovation: We will judge poster designs on creative and innovative presentation of how to prevent concussions at school, home, or play and how to identify and what to do if a concussion happens.

(2) Use of Concussion Safety Message(s): We will judge the poster on the accuracy of the concussion safety message(s) included, as well as how well the poster design uses the message(s) to educate others about concussion safety.

(3) Depiction of a Positive Message: We will judge posters on how well the designs show how to prevent concussions at school, home, or play and how to identify and what to do if a concussion happens. Your poster must not show acts of violence, profane language, inappropriate content, or personal or professional attacks.

(4) We will only accept original graphic design and other creative methods (including, but not limited to paint, pencil, colored pencils, or crayon). You must send in your poster in one of the following ways:

a. by email, in the form of a photograph, PDF or scanned copy to: DUIPInquiries@cdc.gov. Please use subject line Heads Up Poster Design Contest.

b. by mail on a 22″ by 28″ poster board to: Heads Up Poster Design Contest, 4770 Buford Hwy. NE., MS F-62, Atlanta, GA 30341.

Contest Rules and Guidelines

Subject of Contest Competition: Your entry for the “Be Heads Up About Concussion Safety” poster design contest should show your ideas about how to make people aware of concussions and ways to prevent concussions while at school, home or play.

Eligibility Rules for Participating in the Competition: The contest is open to any contestant, who is an individual or permanent resident of the United States between 5 and 18 years of age. Contestants between 5 and 12 years of age are eligible with the permission of a parent/guardian. (Please note help from a parent/guardian is limited to the online registration process and submission of entries. All submissions must include original artwork created solely by children and adolescents.) Contestants may work as teams and enter more than one poster in the contest. We will place teams in the age category based on the oldest team member's age (for example, a team of 11, 12 and 13-year-olds will compete in the Ages 13-15 category).

To have a chance to win a prize in this contest you must—

(1) Register for the contest at www.beheadsup.challenge.gov and follow HHS/CDC's National Center for Injury Prevention and Control rules;

(2) Meet all of the requirements in this section;

(3) Enter the contest as an individual or as a team in which you or all members of the team are citizen(s) or permanent resident(s) of the United States; and

(4) You cannot enter the contest if you are an employee (or contractor) of the HHS/CDC/NCIPC, a contest judge, or in any way involved with the design, production, execution, or distribution of the contest or their immediate family (spouse, parents or step-parents, siblings and step-siblings, and children and step-children).

You won't be disqualified from the contest if you use Federal facilities or talk with Federal employees during the contest if the facilities and employees are available equally to all individuals and entities participating in the contest.

By participating in this contest, contestants agree to assume any and all risks and waive claims against the Federal Government and its related entities, except in the case of willful misconduct, for any injury, death, damage, or loss of property, revenue, or profits, whether direct, indirect, or consequential, arising from participation in this prize contest, whether the injury, death, damage, or loss arises through negligence or otherwise. By participating in this contest, contestants agree to indemnify the Federal Government against third party claims for damages arising from or related to contest activities.

Registration Process for Participants: You may register for the “Be Heads Up About Concussion Safety” contest at: www.beheadsup.challenge.gov. Before you enter a poster in the contest you must follow the rules at Challenge.gov before the deadline of July 28, 2013.

Additional Information: More information on concussion can be found at www.cdc.gov/Concussion.

Regarding Copyright/Intellectual Property: When you send in your poster entry you promise you are the person who made the poster and you own the content presented in the poster. You also promise that you didn't use any copyrighted material or affect the rights of any third party that you know of.

Submission Rights: Once you send in your poster, you give HHS/CDC permission to post, link to, share, and publically display your poster. You can't take this permission back or ask us for money to use the poster. You can give other people permission to use your poster too. You keep all other intellectual property rights of your poster.

Compliance with Rules and Contacting Contest Winners: If you are a finalist or the contest winner, you must meet all terms and conditions of these Official Rules. You can be named a winner only if you meet all the requirements. We will contact finalists using the contact information provided (by email, telephone, or mail after the date of the judging). You may need to pay Federal income taxes on any prize money. The Department of Health and Human Services will follow the Internal Revenue Service withholding and reporting requirements.

Privacy: If you provide personal information to use when you register for the contest at the Challenge.gov Web site, we will use that information to contact you about your poster entry, announcement of entrants, finalists, and winners of the contest. We do not use the information for commercial marketing. If you are a contest winner, you can tell other people you won this contest.

General Conditions: HHS/CDC can cancel, suspend, or change the contest, or any part of it, for any reason.

Authority: 15 U.S.C. 3719.

Dated: May 21, 2013.
Tanja Popovic,
Deputy Associate Director for Science, Centers for Disease Control and Prevention.

[FR Doc. 2013-12682 Filed 5-28-13; 8:45 am]

BILLING CODE 4163-18-P